OFFICE OF PERSONNEL MANAGEMENT

Sunmission for OMB Review; Comment Request for Reclearance of an Information Collection Standard Form 2800 and 2800A

AGENCY: Office of Personnel Management.

ACTION: Notice.

SUMMARY: In accordance with the Paperwork Reduction Act of 1995 (Pub. L. 104-13, May 22, 1995), this notice announces that the Office of Personnel Management (OPM) has submitted to the Office of Management and Budget a request for reclearance of an information collection. SF 2800, Application for Death Benefits Under the Civil Service Retirement System (CSRS), is needed to collect information so that OPM can pay death benefits to the survivors of Federal employees and annuitants. SF 2800A, Documentation and Elections in Support of Application for Death Benefits When Deceased Was an Employee at the Time of Death, is needed for deaths in service only so that survivors can make the needed elections regarding military service.

Approximately 68,000 SF 2800's are processed annually. The form requires approximately 45 minutes to complete. An annual burden of 51,000 hours is estimated. Approximately 6,800 applicants will use SF 2800A annually. This form also requires approximately 45 minutes to complete. An annual burden of 5,100 hours is estimated. The total burden is 56,100 hours.

For copies of this proposal, contact Mary Beth Smith-Toomey on (202) 606-8358, Fax (202) 418-3251 or e-mail to mbtoomey@opm.gov. Please include your mailing address with your request.

DATES: Comments on this proposal should be received within 30 calendar days from the date of this publication.

ADDRESSES: Send or deliver comments to:

Ronald W. Melton, Chief, Operations Support Division, Retirement and Insurance Service, U.S. Office of Personnel Management, 1900 E Street, NW., Room 3349A, Washington, DC 20415-3540.

and

Joseph Lackey, OPM Desk Officer, Office of Information & Regulatory Affairs, Office of Management and Budget, New Executive Office Building, NW., Room 10235, Washington, DC 20503.

FOR MORE INFORMATION CONTACT: Donna G. Lease, Team Leader, Desktop Publishing and Printing Team, Budget & Administrative Services Division, (202) 606-0623.

U.S. Office of Personnel Management.
Kay Coles James,
Director.

[FR Doc. 02-4593 Filed 2-26-02; 8:45 am]

BILLING CODE 6325-50-P